DEPARTMENT OF THE TREASURY

Notice of Meeting Cancellation of the Advisory Committee on the Ten-Year Framework for Energy and Environment Cooperation With China

AGENCY: Office of the Special Envoy to China and the SED, Treasury.

ACTION: Notice of meeting cancellation.

SUMMARY: The Department of Treasury's Advisory Committee on the Ten-Year Framework for Energy and Environment Cooperation with China did not convene its first meeting on Monday, December 1, 2008 due to scheduling conflicts.

FOR FURTHER INFORMATION CONTACT: Casey Delhotal, Environmental and Economic Policy Advisor to the SED, Department of Treasury, 1500 Pennsylvania Avenue, NW., Washington DC 20220, at (202) 622-6780.

SUPPLEMENTARY INFORMATION: In accordance with section 10(a) of the Federal Advisory Committee Act, 5 U.S.C. App. II, section 10(a), and the regulations thereunder, Katherine Casey Delhotal, Designated Federal Officer of the Advisory Committee, has ordered publication of this notice that the Advisory Committee meeting did not convene its first meeting on Monday, December 1, 2008 due to scheduling conflicts.

Dated: December 11, 2008.
Lindsay Valdeon,
Deputy Executive Secretary, Treasury Department.

[FR Doc. E8-30352 Filed 12-19-08; 8:45 am]

BILLING CODE 4810-25-P